DEPARTMENT OF DEFENSE

Department of the Air Force

[25-0005809-AFRL/RY]

Notice of Intent To Grant a Partially Exclusive Patent License

AGENCY: Department of the Air Force, Department of Defense.

ACTION: Notice of intent.

SUMMARY: Pursuant to the Bayh-Dole Act and implementing regulations, the Department of the Air Force hereby gives notice of its intent to grant a partially exclusive patent license to Parcell Company, a corporation of the state of Ohio having a place of business at 2335 Westbrooke Dr., Columbus, OH 43228.

DATES: Written objections must be filed no later than fifteen (15) calendar days after the date of publication of this Notice.

ADDRESSES: Submit written objections to Robert Barnes, Office of Research and Technology Applications (ORTA), 2241 Avionics Circle, Building 620, First floor, Wright-Patterson AFB, OH 45433-7304; Phone: (937) 713-8511; or Email: arfl.ry.orta@us.af.mil. Include Docket No. 25-0005809-AFRL/RY in the subject line of the message.

FOR FURTHER INFORMATION CONTACT: Robert Barnes, Office of Research and Technology Applications (ORTA), 2950 Hobson Way, Bldg. 641, Rm. 101C, Wright-Patterson AFB, OH 45433-7765; Phone: (937) 713-8511; or Email: robert.barnes.36.ctr@us.af.mil.

SUPPLEMENTARY INFORMATION:

Abstract of Patent Application(s)

Protection and integration of proprietary data in an open system architecture, which includes at least one sub-system, and which must comply with an open standard interface mandated by the system owner. The open standard interface defines the set of messages or signals which may be exchanged by sub-system components. The sub-system provider computer is granted a bridge node to instantiate within their controlled sub-system boundary. The bridge node communicates with the sub-system components via the interchangeable open standard interface and relays messages or signals to other sub-system bridge nodes through a shared common bus. The sub-system provider may protect their proprietary data in their standard interface implementation from the system owner and/or other sub-system providers in the overall system. This is achieved by removing the need for sub-system providers to share their open standard interface implementations with each other in order to integrate together into the overall system.

Intellectual Property

U.S. Patent No. 10,901,928 B2, issued on January 26, 2021, and entitled “Data Access Control in an Open System Architecture.”

The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

(Authority: 35 U.S.C. 209; 37 CFR 404.)

Tommy W. Lee,
Acting Air Force Federal Register Liaison Officer.

[FR Doc. 2025-13987 Filed 7-23-25; 8:45 am]

BILLING CODE 3911-44-P